DEPARTMENT OF JUSTICE

Notice of Lodging of Consent Decree Under the Comprehensive Environmental Response, Compensation and Liability Act and the Federal Water Pollution Control Act

Under 42 U.S.C. 9622(d)(2) and 28 CFR 50.7, notice is hereby given that on June 4, 2002, a proposed Consent Decree in United States et al. v. Mulberry Phosphates, Inc., Civil Action No. 8-01-CV-692-T-23TGW, was lodged with the United States District Court for the Middle District of Florida.

In this action the United States sought natural resource damages for injuries to natural resources caused by a 1997 spill of over 50 million gallons of process water into the Alafia River from a phosphoric acid/fertilizer production facility owned by defendant Mulberry Phosphates, Inc. in Mulberry, Florida. The Florida Department of Environmental Protection and the Environmental Protection Commission of Hillsborough County are also parties to the settlement. Under the settlement, plaintiffs will recover: (1) Just over $3.65 million to plan, implement, and oversee projects to restore oyster reef, estuarine wetlands and riverine habitat in the affected watershed to compensate for the natural resource injuries caused by the spill, and (2) approximately $1 million to reimburse Federal, State and county agencies for costs each incurred in assessing the environmental damages.

The Department of Justice will receive for a period of thirty (30) days from the date of this publication comments relating to the Consent Decree. Comments should be addressed to the Assistant Attorney General, Environment and Natural Resources Division, P.O. Box 7611, U.S. Department of Justice, Washington, DC 20044-7611, and should refer to United States et al. v. Mulberry Phosphates, Inc., D.J. Ref. 90-11-2-1368.

The Consent Decree may be examined at the Federal Court House, Sam M. Gibbons United States Courthouse, 800 N. Florida Avenue, Clerk's Office-Second Floor, Tampa, Florida, 33602. A copy of the Consent Decree may also be obtained by mail from the Consent Decree Library, P.O. Box 7611, U.S. Department of Justice, Washington, DC 20044-7611. In requesting a copy, please enclose a check in the amount of $14.25 (25 cents per page reproduction cost) payable to the U.S. Treasury.

Ellen Mahan,
Assistant Section Chief, Environmental Enforcement Section, Environment and Natural Resources Division.

[FR Doc. 02-15235 Filed 6-17-02; 8:45 am]

BILLING CODE 4410-15-M